CORPORATION FOR NATIONAL AND COMMUNITY SERVICE

Sunshine Act Notice

The President's Council on Service and Civic Participation gives notice of the following meeting:

Date and Time: Monday, April 9, 2:30 p.m. to 4 p.m.

Place: Washington, DC—DCJCC, 1529 16th Street, NW., Washington, DC 20036.

Status: Open.

Matters to be Considered:

I. Opening Remarks and Welcome from Council Chair.

II. Approval of Meeting Minutes from October 6, 2006.

III. Report on Council Activities.

IV. Presentation of President's Volunteer Service Awards.

V. Consideration of National Volunteer Week Resolution.

VI. Closing Remarks.

VII. Adjournment.

Accommodations: Anyone who needs an interpreter or other accommodation should notify the Corporation's contact person by Wednesday, April 4.

CONTACT PERSON FOR MORE INFORMATION: Brendan Murphy, Corporation for National and Community Service, 10th Floor, Room 10302E, 1201 New York Avenue, NW., Washington, DC 20525. Phone (202) 606-6945. Fax (202) 606-3460. TDD: (202) 606-3472. e-mail: dpremo@cns.gov.

Dated: March 29, 2007.
Frank R. Trinity,
General Counsel.

[FR Doc. 07-1637 Filed 3-29-07; 3:40 pm]

BILLING CODE 6050-$$-P